DEPARTMENT OF DEFENSE

Department of the Army

[Docket ID: USA-2014-0004]

Proposed Collection; Comment Request

AGENCY: U.S. Army TACOM Life Cycle Management Command, DoD.

ACTION: Notice.

SUMMARY: In compliance with Section 3506(c)(2)(A) of the Paperwork Reduction Act of 1995, the U.S. Army TACOM Life Cycle Management Command announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 27, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the TACOM LCMC CIO G6, ATTN: Gary Husted, Bld 230 Rm 100E, 6501 E Eleven Mile Rd, Warren, MI 48397-5000, or call 585-282-9771.

SUPPLEMENTARY INFORMATION:

Title; Associated Form; and OMB Number: Account Control & Automated Approval System; 0702-XXXX.

Needs and Uses: The information collection requirement is necessary for security personnel to perform a background check to determine if the individual meets the requirements to be offered a position working at the Detroit Arsenal.

Affected Public: Individuals or Households.

Annual Burden Hours: 2.

Number of Respondents: 25.

Responses per Respondent: 1.

Total Annual Responses: 25.

Average Burden per Response: 5 minutes.

Frequency: On Occasion.

Respondents are candidates seeking employment at the Detroit Arsenal. This application automates the account approval process. The application stores data and route information to local security personnel for review and approval prior to a job offer being presented to a potential new government employee. The application also automates the approval process and tracks which users have access to the Detroit Arsenal network and TACOM LCMC systems and applications.

Dated: March 19, 2014.
Aaron Siegel,
Alternate OSD Federal Register Liaison Officer, Department of Defense.

[FR Doc. 2014-06546 Filed 3-25-14; 8:45 am]

BILLING CODE 5001-06-P